DEPARTMENT OF THE INTERIOR

Geological Survey

[USGS-GX11CY00STF0000]

Strengthening the Scientific Understanding of Climate Change Impacts on Freshwater Resources of the United States

AGENCY: U.S. Geological Survey, Interior.

ACTION: Notice of feedback.

SUMMARY: We, the U.S. Geological Survey (USGS), announce the availability for public comment of draft report titled “Strengthening the Scientific Understanding of Climate Change Impacts on Freshwater Resources of the United States”. The report reviews key issues related to freshwater resource data and climate change and identifies next steps to improve the Nation's capacity to detect and predict changes in freshwater resources that are likely to result from a changing climate.

DATES: We must receive any written comments on or before April 22, 2011.

ADDRESSES: We have posted our draft report at http://acwi.gov/Rpt.Congress3.18.11.pdf. You may submit comments to tschertz@usgs.gov (e-mail). Please include “9506 Report” in the subject line of the message, and your full name and return address in the body of your message. Please note that we will not respond to any e-mail messages once the public comment period closes. Alternatively, you may submit comments or recommendations by mail to: T. Schertz; U.S. Geological Survey; 12201 Sunrise Valley Drive, MS 412; Reston, VA 20192.

FOR FURTHER INFORMATION CONTACT: T. Schertz, 703-648-6864.

SUPPLEMENTARY INFORMATION: The draft report was prepared in response to Section 9506 of Public Law 111-11 by an interagency team of water data program managers and scientists. The interagency team cooperated with the Subcommittee on Water Availability and Quality (SWAQ), an interagency subcommittee of the National Science and Technology Council (NSTC) Committee on Environment Natural Resources, and Sustainability (CENRS) and the Federal Interagency Climate Change Adaptation Task Force and its Water Resources Workgroup. The interagency team also collaborated with a range of interested parties including the Advisory Committee on Water Information (ACWI). The interagency team consisted of representatives from the U.S. Geological Survey, U.S. Environmental Protection Agency, National Oceanic and Atmospheric Administration, U.S. Army Corps of Engineers, U.S. Department of Agriculture, U.S. Global Change Program, and Council on Environmental Quality.

Public Availability of Comments

Before including your address, phone number, e-mail or other personal identifying information in your comment, you should be aware that your entire comment—including your personal identifying information—may be made publicly available at any time. You can ask us in your comment to withhold your personal identifying information from public review, but we cannot guarantee that we will be able to do so.

Dated: March 25, 2011.
David J. Newman,
USGS Federal Register Liaison.

[FR Doc. 2011-7615 Filed 3-30-11; 8:45 am]

BILLING CODE P